DEPARTMENT OF THE INTERIOR

Bureau of Land Management

[AZ-P040-2016-1711-PH-1000-241A]

Notice of Intent To Amend the Resource Management Plan for the Sonoran Desert National Monument, Arizona, and Prepare an Associated Environmental Impact Statement

AGENCY: Bureau of Land Management, Interior.

ACTION: Notice of intent.

SUMMARY: In compliance with the National Environmental Policy Act (NEPA) of 1969, as amended, and the Federal Land Policy and Management Act (FLPMA) of 1976, as amended, the Bureau of Land Management (BLM) Lower Sonoran Field Office, Phoenix, Arizona, intends to prepare a Resource Management Plan (RMP) amendment with an associated Environmental Impact Statement (EIS) for the Sonoran Desert National Monument (SDNM). This notice announces the beginning of the scoping process to solicit public comments and identify issues.

DATES: This notice initiates the public scoping process for the RMP amendment with an associated EIS. Comments on issues may be submitted in writing until March 21, 2016. The date(s) and location(s) of scoping meetings will be announced at least 15 days in advance through local news media, newspapers and the BLM Web site at http://on.doi.gov/1JayaFm. In order to be included in the analysis, all comments must be received prior to the close of the 60-day scoping period or 15 days after the last public meeting, whichever is later. We will provide additional opportunities for public participation as appropriate.

ADDRESSES: You may submit comments on issues and planning criteria related to the SDNM Amendment and EIS addressing Recreational Target Shooting in the SDNM by any of the methods outlined below:

• Email: BLM_AZ_SDNMtargetshooting@blm.gov

• Fax: 623-580-5623

• Mail: BLM, Sonoran Desert National Monument, 21605 North 7th Avenue, Phoenix, AZ 85027

Documents pertinent to this proposal may be examined at the Phoenix District Office, 21605 North 7th Avenue, Phoenix, AZ 85027.

FOR FURTHER INFORMATION CONTACT: Dave Scarbrough, Monument Manager, telephone 623-580-5651; address 21605 North 7th Avenue, Phoenix, AZ 85027; email dscarbro@blm.gov. Contact Mr. Scarbrough to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Lower Sonoran Field Office, Phoenix, Arizona, intends to prepare an RMP amendment addressing recreational target shooting in the SDNM with an associated EIS, announces the beginning of the scoping process, and seeks public input on issues and planning criteria. The planning area is located in Maricopa and Pinal counties, Arizona and encompasses approximately 486,400 acres of public land. The purpose of the public scoping process is to determine relevant issues that will influence the scope of the environmental analysis, including alternatives, and guide the planning process. Preliminary issues for the plan amendment area have been identified by BLM personnel and include: (1) Direct, indirect, and cumulative impacts from target shooting on monument objects and other resources; (2) impacts to surrounding areas resulting from displacement of recreational target shooters if areas are closed; (3) impacts to natural and cultural resources related to noise and litter associated with recreational target shooting; and (4) identification of opportunities to apply hierarchical mitigation strategies for avoiding, minimizing, and, where compensatory mitigation is appropriate, considering on-site, nearby, and regional locations as it relates to recreational target shooting. Preliminary planning criteria requires the BLM to ensure that there are no unnecessary data collection and analyses; that the process is based on applicable law; that the actions will be available for public comment; and that the BLM will be flexible in making adjustments as situations and assessments warrant.

You may submit comments on issues in writing to the BLM at any public scoping meeting, or you may submit them to the BLM using one of the methods listed in the ADDRESSES section above. To be most helpful, you should submit comments by the close of the 60-day scoping period or within 15 days after the last public meeting, whichever is later.

The BLM will utilize and coordinate the NEPA scoping process to help fulfill the public involvement process under the National Historic Preservation Act (54 U.S.C. 306108), as provided in 36 CFR 800.2(d)(3). The information about historic and cultural resources within the area of potential effect of the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the EIS as a cooperating agency.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft RMP/Draft EIS as to why an issue was placed in categories 2 or 3. The public is also encouraged to help identify any management questions and concerns that should be addressed in the plan. The BLM will work collaboratively with interested parties to identify management decisions that are best suited to local, regional, and national needs and concerns.

The BLM will use an interdisciplinary approach to develop the plan amendment in order to consider the variety of resource issues and concerns identified. Specialists with expertise in the following disciplines will be involved in the planning process: National Conservation Lands designations, outdoor recreation, archaeology, wildlife and fisheries, rangeland management, minerals and geology, lands and realty, hydrology, soils, sociology, and economics.

Authority: 40 CFR 1501.7 and 43 CFR 1610.2.

Edward J. Kender,
Field Manager.

[FR Doc. 2016-01187 Filed 1-20-16; 8:45 am]

BILLING CODE 4310-32-P